DEPARTMENT OF COMMERCE

International Trade Administration

Applications for Duty-Free Entry of Scientific Instruments

Pursuant to section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before March 26, 2008. Address written comments to Statutory Import Programs Staff, Room 2104, U.S. Department of Commerce, Washington, DC 20230. Applications may be examined between 8:30 a.m. and 5 p.m. at the U.S. Department of Commerce in Room 2104.

Docket Number: 08-004. Applicant: VA Connecticut Healthcare System, Neuroscience Research Center (127A), VA Connecticut Healthcare System, 950 Campbell Avenue, West Haven, CT 06516. Instrument: Electron Microscope, Model JEM-1011. Manufacturer: Jeol, Inc., Japan. Intended Use: The instrument is intended to be used to examine the molecular ultrastructure of brain, spinal cord and other nervous tissue samples obtained from control and experimental animals. The objectives of these research investigations are to understand the mechanisms of nerve cell damage and loss following injury and to examine the efficacy of different therapeutic interventions that can eliminate or minimize dysfunction following nervous system injury. Application accepted by Commissioner of Customs: February 8, 2008.

Docket Number: 08-005. Applicant: University of Utah, 201 S. President's Circle, Salt Lake City, UT 84112. Instrument: Electron Microscope, Model 600 Quanta FEG. Manufacturer: FEI Company, Czech Republic. Intended Use: The instrument is intended to be used primarily for electron beam lithography as well as chemical characterization of a wide variety of materials. The instrument will be used to measure the size and chemical composition of nanoparticles and nanostructures. It will also be used to create nanostructures using electron beam lithography. Application accepted by Commissioner of Customs: February 17, 2008.

Docket Number: 08-006. Applicant: Advocate Lutheran General Hospital—Em/Pathology, 1775 Dempster, 5th Floor, Park Ridge, IL 60068. Instrument: Electron Microscope, Model H-7650. Manufacturer: Hitachi High-Technologies Corp., Japan. Intended Use: The instrument is intended to be used primarily as a tool in the pathologic diagnosis of human diseases, mainly in: (a) Kidney biopsies, to aid in the diagnosis of medical and certain hereditary kidney diseases; (b) biopsies and/or resections of certain undifferentiated cancers; (c) biopsies of muscles, nerves, or brain, to identify certain metabolic and hereditary disorders of these organs; and (d) biopsies of the respiratory and alimentary tracts, to identify certain developmental disorders of these organs. It will also be used to aid in the training of physician residents in pathology during their rotations in Nephropathology and Surgical Pathology. Application accepted by Commissioner of Customs: February 12, 2008.

Dated: March 3, 2008.
Faye Robinson,
Director, Statutory Import Programs Staff.

[FR Doc. E8-4407 Filed 3-5-08; 8:45 am]

BILLING CODE 3510-DS-P